FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012411.

Title: APL/CMA CGM-U.S. West Coast—Asia Slot Charter Agreement.

Parties: American President Lines, Ltd. and CMA CGM S.A.

Filing Party: Draughn B. Arbona, Esq; CMA CGM (America) LLC; 5701 Lake Wright Drive; Norfolk, VA 23502.

Synopsis: The agreement authorizes APL to charter space to CMA CGM on U.S. flag vessels from the U.S. West Coast on the one hand, to China and South Korea on the other hand.

Agreement No.: 012412.

Title: HMM/ZIM Slot Exchange Agreement.

Parties: Hyundai Merchant Marine Co., Ltd. and Zim Integrated Shipping Services, Ltd.

Filing Party: Mark E. Newcomb; ZIM American Integrated Shipping Services, Co. LLC; 5801 Lake Wright Dr.; Norfolk, VA 23508.

Synopsis: The agreement authorizes Hyundai and Zim to exchange slots in the trade between China, Hong Kong, Malaysia, Panama, Saudi Arabia, Singapore, Sri Lanka, Taiwan, and Vietnam, on the one hand, and the U.S. East Coast and Gulf of Mexico, on the other hand.

Agreement No.: 012413.

Title: MOL/ELJSA Slot Exchange Agreement.

Parties: Mitsui O.S.K. Lines, Ltd and Evergreen Line Joint Service Agreement.

Filing Party: Eric. C. Jeffrey, Esq.; Nixon Peabody LLP; 799 9th Street NW., Suite 500; Washington, DC 20001.

Synopsis: The agreement authorizes the parties to exchange slots in the trade between the U.S. East Coast, on the one hand, and the People's Republic of China (including Hong Kong), Taiwan, Vietnam, Singapore, Sri Lanka, Egypt, and Panama, on the other hand.

Agreement No.: 201233.

Title: Port Operations and Safety Discussion Agreement.

Parties: The Georgia Ports Authority; The Port of Houston Authority; The Massachusetts Port Authority; The North Carolina State Ports Authority; The South Carolina Ports Authority; The Virginia Port Authority and Virginia International Terminals, LLC; Ocean Carrier Equipment Management Association, Inc.; Ocean Common Carrier Parties in Their Individual Capacity and as Members of OCEMA: Maersk Line A/S; APL Co. Pte Ltd.; American President Lines, Ltd.; CMA CGM S.A.; Cosco Container Lines Company Limited; Evergreen Line Joint Service Agreement FMC No. 011982; Hamburg-Sud; Alianca Navegacao e Logistica Ltda.; Hapag-Lloyd AG; Hapag-Lloyd USA LLC; Hyundai Merchant Marine Co., Ltd.; Mitsui O.S.K. Lines, Ltd.; Nippon Yusen Kaisha Line; Orient Overseas Container Line Limited; Yang Ming Marine Transport Corp.; Kawasaki Kisen Kaisha, Ltd.; Atlantic Container Line; Zim Integrated Shipping Services; Mediterranean Shipping Company, S.A.; United Arab Shipping Co.; Wan Hai Lines Ltd.

Filing Party: Jeffrey F. Lawrence, Esq. and Donald J. Kassilke, Esq.; Cozen O'Connor; 1200 Nineteenth Street, NW; Washington, DC 20036.

Synopsis: The Agreement would authorize the parties to exchange information, discuss, and reach voluntary, non-binding agreement on matters relating to rules, procedures, programs, practices, terms and conditions with respect to the organization, development, calculation, availability, transmission or use of Verified Gross Mass data. The parties have requested Expedited Review.

By Order of the Federal Maritime Commission.
Dated: May 20, 2016.
Karen V. Gregory,
Secretary.

[FR Doc. 2016-12327 Filed 5-24-16; 8:45 am]

BILLING CODE 6731-AA-P